DEPARTMENT OF THE INTERIOR

National Park Service

Notice of Inventory Completion: U.S. Department of the Interior, Bureau of Indian Affairs, Washington, DC, and U.S. Department of the Interior, Indian Arts and Crafts Board, Southern Plains Indian Museum, Anadarko, OK

AGENCY: National Park Service, Interior.

ACTION: Notice.

Notice is here given in accordance with the Native American Graves Protection and Repatriation Act (NAGPRA), 25 U.S.C. 3003, of the completion of an inventory of human remains in the control of the U.S. Department of the Interior, Bureau of Indian Affairs, Washington, DC, and in possession of the U.S. Department of the Interior, Indian Arts and Crafts Board, Southern Plains Indian Museum, Anadarko, OK. The human remains were removed from a site on the Zuni Reservation, McKinley County, NM.

This notice is published as part of the National Park Service's administrative responsibilities under NAGPRA, 25 U.S.C. 3003 (d)(3). The determinations in this notice are the sole responsibility of the museum, institution, or Federal agency that has control of the Native American human remains. The National Park Service is not responsible for the determinations in this notice.

An assessment of the human remains was made by the Southern Plains Indian Museum professional staff in consultation with representatives of the Zuni Tribe of the Zuni Reservation, New Mexico.

At an unknown date, human remains representing a minimum of one individual were removed by an unknown person from a site on the Zuni Reservation, about 2 miles north of Black Rock Agency, McKinley County, NM. The remains were donated to the Southern Plains Indian Museum by a Mr. John Peters in September, 1949. No known individual was identified. No associated funerary objects are present.

Determination of cultural affiliation is made on the basis of the geographic location of the site where the human remains were removed.

Officials of the Southern Plains Indian Museum have determined that, pursuant to 25 U.S.C. 3001 (9-10), the human remains described above represent the physical remains of one individual of Native American ancestry. Officials of the Indian Arts and Crafts Board have also determined that, pursuant to 25 U.S.C. 3001 (2), there is a relationship of shared group identity that can be reasonably traced between the Native American human remains and the Zuni Tribe of the Zuni Reservation, New Mexico.

Representatives of any other Indian tribe that believes itself to be culturally affiliated with the human remains should contact Ms. Eva Williams, Indian Arts and Crafts Board, Southern Plains Indian Museum, P.O. Box 749, Anadarko, OK 73005, telephone (405) 247-6221, before January 9, 2006. Repatriation of the human remains to the Zuni Tribe of the Zuni Reservation, New Mexico may proceed after that date if no additional claimants come forward.

The Southern Plains Indian Museum is responsible for notifying the Zuni Tribe of the Zuni Reservation, New Mexico that this notice has been published.

Dated: October 31, 2005
Sherry Hutt,
Manager, National NAGPRA Program.

[FR Doc. 05-23868 Filed 12-8-05; 8:45 am]

BILLING CODE 4312-50-S